DEPARTMENT OF HOUSING AND URBAN DEVELOPMENT

[Docket No. FR-5342-N-01]

Notice of Availability: Notice of Funding Availability (NOFA) for Fiscal Year (FY) 2009 Family Unification Program (FUP)

AGENCY: Office of the Assistant Secretary for Public and Indian Housing, HUD.

ACTION: Notice.

SUMMARY: HUD announces the availability on its Web site of the applicant information, deadline information, and other requirements for the Family Unification Program (FUP) NOFA for FY2009. Approximately $14.6 million is made available through this NOFA, through the Omnibus Appropriations Act, 2009 (Pub. L. 111-8, approved March 11, 2009). The FY2009 FUP NOFA that provides this information is available on the Grants.gov Web site at http://apply07.grants.gov/apply/forms_app_idx.html. A link to Grants.gov is also available on the HUD Web site at http://www.hud.gov/offices/adm/grants/fundsavail.cfm. The Catalogue of Federal Domestic Assistance (CFDA) number for the Family Unification Program is 14.880. Applications submitted in response to the FY2009 FUP NOFA must be submitted electronically through Grants.gov.

FOR FURTHER INFORMATION CONTACT: Questions regarding specific program requirements should be directed to the agency contact identified in the program NOFA. Questions regarding the 2009 General Section should be directed to the Office of Departmental Grants Management and Oversight at 202-708-0667 (this is not a toll-free number) or the NOFA Information Center at 1-800-HUD-8929 (toll-free). Persons with hearing or speech impairments may access these numbers via TTY by calling the Federal Information Relay Service at 1-800-877-8339.

Dated: September 23, 2009.
Sandra B. Henriquez,
Assistant Secretary for Public and Indian Housing.

[FR Doc. E9-23970 Filed 10-5-09; 8:45 am]

BILLING CODE 4210-67-P